DEPARTMENT OF JUSTICE

Drug Enforcement Administration

Importer of Controlled Substances; Notice of Application; Lipomed

Correction

In notice document 2012-19196 appearing on page 47108 in the issue of Tuesday, August 7, 2012, make the following corrections:

1. On page 47108, in the first column, the document heading should appear as set forth above.

2. On page 47108, in the second column, in the second full paragraph, in the eighth line of text, “September 6, 2012” should read “September 19, 2012”.

[FR Doc. C1-2012-19196 Filed 8-17-12; 8:45 am]

BILLING CODE 1505-01-D